TENNESSEE VALLEY AUTHORITY

Meeting of the Regional Energy Resource Council

AGENCY: Tennessee Valley Authority (TVA).

ACTION: Notice of meeting.

SUMMARY: The TVA Regional Energy Resource Council (RERC) will hold a meeting on Wednesday, November 29, 2017, to consider various matters related to energy resources in the Tennessee Valley.

The RERC was established to advise TVA on its energy resource activities and the priority to be placed among competing objectives and values. Notice of this meeting is given under the Federal Advisory Committee Act (FACA).

DATES: The public meeting will be held on Wednesday, November 29, 2017, from 8:30 a.m. to 3:30 p.m., EST.

ADDRESSES: The meeting will be held at Hilton Knoxville, 501 West Church Avenue, Knoxville, Tennessee 37902, and will be open to the public. Anyone needing special access or accommodations should let the contact below know at least a week in advance.

FOR FURTHER INFORMATION CONTACT: Barbie Perdue, 865-632-6113, baperdue@tva.gov.

SUPPLEMENTARY INFORMATION:

The meeting agenda includes the following:

1. Introductions

2. An overview of TVA's Mission and Scope

3. Presentations regarding TVA's Rates and Finances, TVA's Long Range Energy Planning efforts and Energy Efficiency projects for Low Income Residents

4. Public Comments

5. Council Discussion

The RERC will hear opinions and views of citizens by providing a public comment session starting at 1:15 p.m. EST, lasting up to one hour, on Wednesday, November 29, 2017. Persons wishing to speak are requested to register at the door between 11:00 a.m. and 1:00 p.m., EST, on Wednesday, November 29, 2017, and will be called on during the public comment period. TVA will set time limits for providing oral comments, once registered. Handout materials should be limited to one printed page. Written comments are also invited and may be mailed to the Regional Energy Resource Council, Tennessee Valley Authority, 400 West Summit Hill Drive, WT-9 D, Knoxville, Tennessee 37902.

Dated: November 6, 2017.
Joseph J. Hoagland,
Vice President, Enterprise Relations and Innovation, Tennessee Valley Authority.

[FR Doc. 2017-24499 Filed 11-9-17; 8:45 am]

BILLING CODE 8120-08-P